DEPARTMENT OF DEFENSE

Office of the Secretary

[Docket ID: DOD-2025-OS-0573]

Submission for OMB Review; Comment Request

AGENCY: Office of the Under Secretary of Defense for Personnel and Readiness (OUSD(P&R)), Department of Defense (DoD).

ACTION: 30-Day information collection notice.

SUMMARY: The DoD has submitted to the Office of Management and Budget (OMB) for clearance the following proposal for collection of information under the provisions of the Paperwork Reduction Act.

DATES: Consideration will be given to all comments received by January 28, 2026.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; Associated Form; and OMB Number: Qualitative and Quantitative Data Collection on Independent Review Commission Recommendation Evaluation; OMB Control Number 0704-0644.

Type of Request: Extension.

Number of Respondents: 72,000.

Responses per Respondent: 1.

Annual Responses: 72,000.

Average Burden per Response: 37.5 minutes.

Annual Burden Hours: 45,000 hours.

Needs and Uses: This information collection activity provides a means to garner DoD-wide quantitative and qualitative data in support of the implementation and evaluation of the Secretary of Defense approved Independent Review Commission's (IRC) 82 recommendations. These information collections will be conducted by the OUSD (P&R), Office of General Counsel, Military Departments, Military Services, and/or National Guard Bureau (hereafter referred to as DoD). DoD will collect quantitative and qualitative data through data calls, surveys, interviews, site visits and other validated methods. Information collection efforts will align to the four IRC Lines of Effort (LOE): LOE 1—Accountability; LOE 2—Prevention; LOE 3: Climate and Culture; and LOE 4: Victim Care and Support.

Affected Public: Individuals or households.

Frequency: Annually.

Respondent's Obligation: Voluntary.

DoD Clearance Officer: Mr. Reginald Lucas.

Dated: December 19, 2025.
Stephanie J. Bost,
Alternate OSD Federal Register Liaison Officer, Department of Defense.

[FR Doc. 2025-23790 Filed 12-23-25; 8:45 am]

BILLING CODE 6001-FR-P